DEPARTMENT OF TRANSPORTATION

Federal Aviation Administration

Notice of Intent To Rule on Application To Impose and Use the Revenue From a Passenger Facility Charge (PFC) at Burbank-Glendale-Pasadena Airport, Burbank, California

AGENCY: Federal Aviation Administration (FAA), DOT.

ACTION: Notice of intent to rule on application.

SUMMARY: The FAA proposes to rule and invites public comment on the application to impose and use the revenue from a PFC at Burbank-Glendale-Pasadena Airport under the provisions of the Aviation Safety and Capacity Expansion Act of 1990 (Title IX of the Omnibus Budget Reconciliation Act of 1990) (Pub. L. 101-508) and part 158 of the Federal Aviation Regulations (14 CFR part 158).

DATES: Comments must be received on or before December 22, 2000.

ADDRESSES: Comments on this application may be mailed or delivered in triplicate to: Federal Aviation Administration, Airports Division, 15000 Aviation Blvd., Room 3024, Lawndale, CA 90261. In addition, one copy of any comments submitted to the FAA must be mailed or delivered to Mr. Dios Marrero, Executive Director, Burbank-Glendale-Pasadena Airport Authority, at the following address: 2627 Hollywood Way, Burbank, CA 91505-9989. Air carriers and foreign air carriers may submit copies of written comments previously provided to the Burbank-Glendale-Pasadena Airport Authority under § 158.23 of part 158.

FOR FURTHER INFORMATION CONTACT: Mr. Ruben Cabalbag, Airports Program Engineer, Standards Section, Airports Division, Federal Aviation Administration, 15000 Aviation Blvd., Room 3024, Lawndale, CA 90261, Telephone (310) 725-3630. The application may be reviewed in person at this same location.

SUPPLEMENTARY INFORMATION: The FAA proposes to rule and invites public comment on the application to impose and use the revenue from a PFC at Burbank-Glendale-Pasadena Airport under the provisions of the Aviation Safety and Capacity Expansion Act of 1990 (Title IX of the Omnibus Budget Reconciliation Act of 1990) (Pub. L. 101-508) and part 158 of the Federal Aviation Regulations (14 CFR part 158).

On October 27, 2000, the FAA determined that the application to impose and use the revenue from a PFC submitted by the Burbank-Glendale-Pasadena Airport Authority was substantially complete within the requirements of § 158.25 of part 158. The FAA will approve or disapprove the application, in whole or in part, no later than January 27, 2001.

The following is a brief overview of the application.

PFC application number: 00-04-C-00-BUR.

Level of proposed PFC: $3.00.

Proposed charge effective date: July 1, 2010.

Proposed charge expiration date: April 30, 2021.

Total estimated PFC revenue: $73,811,638.

Brief description of the proposed projects: Reimbursable Airside Projects: A1 Temporary Fire Station; A2 Modular ARFF Station; A11 Gate B4 and B5 Hardstands Work; A14 ARFF Equipment (tools); A19 Gate B2 Hardstand; A24 Airfield Signage; A27 ARFF Station Ramp; A29 Sealcoat and Stripe Taxiways B & D; A30 Gate B5 Paving; A35 Tie-in C-6 Paving; A36 B-Ramp Hardstand and Striping; A37 Taxiway Centerline Lighting; A38 Restripe East Ramp; A39 Intersection Marking Change; A41 Hardstand Extension at Gate A4; A43 East Ramp Hardstands; A45 Airfield Distance Remaining Signs; C1 Aircraft Holding pad, Runway 15 Center Reconstruction, Airfield Signage, and Taxiway G Lighting; C2 Taxiway B Lights, Airfield Signage, Taxiway A, B, C and Taxilane Rehabilitation and Runway 8-26 Blast Fence Extension; C3A ARFF Equipment (trucks); C3B Access Controls; C5 Runway 33 Rehabilitation; Reimbursable Landside Projects: A5 Arvilla Street and San Fernando Road Improvements; A6 Roadway Signage; A12 Terminal Road Restriping; A13 Avenue B Repairs; A17 Terminal Entrance Road Repairs; Reimbursable Noise Projects: A44 Noise Monitoring Equipment; C4 Part 150 Update; Reimbursable Terminal Projects: A3 East Concourse Modifications; A4 1000KV Generator; A10 Modifications to Holdrooms 1, 2, 3 and 4; A15 Americans with Disabilities Access; A18 Holdrooms 5, 6 and 7 Modifications; A21 Terminal A Baggage Claim Modifications; A22 Building 10 Seismic Retrofit; A25 Terminal B Restrooms; A26 Terminal B Sewer; #A32 Americans with Disabilities Access; Noise Mitigation Projects—Original Part 150 Program: B1 Home Acoustical Treatment in Original Part 150 Program; B2 Luther Burbank School Acoustical Treatment; B3 Glenwood School Acoustical Treatment; B4 Mingay School Acoustical Treatment; B5 St. Patrick's School Acoustical Treatment; D1 Additional Residences for Acoustical Treatment; D2 Additional Schools for Acoustical Treatment.

Class or classes of air carriers which the public agency has requested not be required to collect PFCs: All air taxi/commercial operators filing or required to file FAA Form 1800-31.

Any person may inspect the application in person at the FAA office listed above under FOR FURTHER INFORMATION CONTACT. In addition, any person may, upon request, inspect the application, notice and other documents germane to the application in person at the Burbank-Glendale-Pasadena Airport Authority.

Issued in Los Angeles, California, on October 27, 2000.
Herman C. Bliss,
Manager, Airports Division, Western-Pacific Region.

[FR Doc. 00-29912 Filed 11-21-00; 8:45 am]

BILLING CODE 4910-13-M